DEPARTMENT OF COMMERCE

National Oceanic and Atmospheric Administration

RIN 0648-XF367

Marine Mammals; File No. 20951

AGENCY: National Marine Fisheries Service (NMFS), National Oceanic and Atmospheric Administration (NOAA), Commerce.

ACTION: Notice; receipt of application.

SUMMARY: Notice is hereby given that Ann Zoidis, Ph.D., Cetos Research Organization, 11 Des Isle Avenue, Bar Harbor, ME 04609, has applied in due form for a permit to conduct research on marine mammals.

DATES: Written, telefaxed, or email comments must be received on or before June 15, 2017.

ADDRESSES: The application and related documents are available for review by selecting “Records Open for Public Comment” from the “Features” box on the Applications and Permits for Protected Species (APPS) home page, https://apps.nmfs.noaa.gov, and then selecting File No. 20951 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Shasta McClenahan or Carrie Hubard, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

The applicant requests a five-year research permit to study cetaceans in the Gulf of Maine to determine population behavior, size, distribution, seasonal variations, habitat utilization, and trophic ecology. The research would target 17 species of cetaceans including the following endangered species: Blue (Balaenoptera musculus), fin (B. physalus), North Atlantic right (Eubalaena glacialis), sei (B. borealis), and sperm (Physeter macrocephalus) whales. Researchers would conduct vessel and unmanned aerial surveys for counts, biological sampling, observations, photography, and photogrammetry of cetaceans. Standard research activities for target large whale species include annual takes of 400 each fin and humpback (Megaptera novaeangliae) whales, 100 each minke (B. acutorostrata) and sei whales, and 50 each blue, North Atlantic right, and sperm whales. Adult and juvenile whales may be biopsy sampled annually: Up to 100 each fin and humpback whales, and 30 each blue, minke, and sei whales. Up to 10 humpback and fin whale calves, 6 months or older, may be biopsy sampled each year. Other Level B harassment takes may occur for nine smaller, non-listed cetacean species; please see the take table of the application.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: May 11, 2017.
Julia Harrison,
Chief, Permits and Conservation Division, Office of Protected Resources, National Marine Fisheries Service.

[FR Doc. 2017-09854 Filed 5-15-17; 8:45 am]

BILLING CODE 3510-22-P